SECURITIES AND EXCHANGE COMMISSION

Comment Request

Upon Written Request, Copies Available From: Securities and Exchange Commission, Office of Filings and Information Services, Washington, DC 20549.

Extension: Rule 22d-1, SEC File No. 270-275, OMB Control No. 3235-0310.

Notice is herby given that pursuant to the Paperwork Reduction Act of 1995 (44 U.S.C. 3501 et seq.), the Securities and Exchange Commission (“Commission”) is publishing for public comment the following summary of previously approved information collection requirements in Rule 22d-1 under the Investment Company Act of 1940 (“Investment Company Act”).

Rule 22d-1 [17 CFR 270.22d-1] provides registered investment companies that issue redeemable securities (“funds”) an exemption from section 22(d) of the Investment Company Act to the extent necessary to permit schedules variations in or elimination of the sales load on fund securities for particular classes of investors or transactions, provided certain conditions are met. The rule imposes an annual burden per fund of approximately 15 minutes, so that the total burden for the approximately 2,400 funds that might rely on the rule is estimated to be 600 hours.

The estimate of average burden hours is made solely for the purposes of the Paperwork Reduction Act, and is not derived from a comprehensive or even a representative survey or study.

Written comments are requested on: (a) Whether the collection of information is necessary for the proper performance of the functions of the Commission, including whether the information has practical utility; (b) the accuracy of the Commission's estimate of the burdens of the collection of information; (c) ways to enhance the quality, utility, and clarity of the information collected; and (d) ways to minimize the burden of the collection of information on respondents, including through the use of automated collection techniques or other forms of information technology. Consideration will be given to comments and suggestions submitted in writing within 60 days of this publication.

Please direct your comments to Michael E. Bartell, Associate Executive Director, Office of Information Technology, Securities and Exchange Commission, 450 Fifth Street, N.W., Washington, D.C. 20549.

Dated: February 7, 2000.
Margaret H. McFarland,
Deputy Secretary.

[FR Doc. 00-3368 Filed 2-11-00; 8:45 am]

BILLING CODE 8010-01-M